DEPARTMENT OF ENERGY

Federal Energy Regulatory Commission

[Docket No. RP03-238-000]

Dominion Transmission, Inc.; Notice of Proposed Changes in FERC Gas Tariff

January 23, 2003.

Take notice that on January 21, 2003, Dominion Transmission, Inc. (DTI) tendered for filing as part of its FERC Gas Tariff, Third Revised Volume No. 1, the following revised tariff sheets, with a March 1, 2003 effective date:

Third Revised Sheet No. 210

Third Revised Sheet No. 211

Fourth Revised Sheet No. 1006

Third Revised Sheet No. 1007

Second Revised Sheet No. 1031

Third Revised Sheet No. 1052

Fifth Revised Sheet No. 1143

Third Revised Sheet No. 1143A

Fourth Revised Sheet No. 1155

Sheet No. 1160

Fourth Revised Sheet No. 1185

DTI states that it is filing the above-referenced tariff sheets to make various formatting changes, to correct typographical errors and to eliminate the reference to Eastern Clock Time.

DTI states that copies of its letter of transmittal and enclosures have been served upon DTI's customers and interested state commissions.

Any person desiring to be heard or to protest said filing should file a motion to intervene or a protest with the Federal Energy Regulatory Commission, 888 First Street, NE., Washington, DC 20426, in accordance with sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 3, 2003.

Magalie R. Salas,
Secretary.

[FR Doc. 03-2141 Filed 1-28-03; 8:45 am]

BILLING CODE 6717-01-P